ENVIRONMENTAL PROTECTION AGENCY

40 CFR Parts 152, 154, 158, 159, 168, and 178

[OPP-2004- 0216; FRL-7368-4]

Office of Pesticide Programs Address Changes

AGENCY: Environmental Protection Agency (EPA).

ACTION: Final rule; technical amendment.

SUMMARY: EPA is issuing this technical amendment to update the regulations of the Office of Pesticide Progams (OPP) to change several addresses and mail codes for OPP that have been changed in recent months.

DATES: This final rule is effective on July 1, 2004.

ADDRESSES: EPA has established a docket for this action under Docket identification number OPP-2004-0216. All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Public Information and Records Integrity Branch (PIRIB), Rm. 119, Crystal Mall #2, 1801 South Bell St., Arlington, VA., Monday through Friday, excluding legal holidays. The Docket telephone number is (703) 305-5805.

FOR FURTHER INFORMATION CONTACT: Jean M. Frane, Field and External Affairs Division (7506C), Office of Pesticide Programs, Environmental Protection Agency, 1200 Pennsylvania Ave., NW., Washington, DC 20460-0001; telephone number: (703) 305-5944; e-mail address:frane.jean@epa.gov.

SUPPLEMENTARY INFORMATION:

I. General Information

A. Does this Action Apply to Me?

The Agency has not included in this technical amendment a list of those who may be potentially affected by this action. If you have questions regarding the applicability of this action to a particular entity, consult the person listed under the FOR FURTHER INFORMATION CONTACT.

B. How Can I Access Electronic Copies of this Document and Other Related Information?

In addition to using EDOCKET at http://www.epa.gov/edocket/, you may access this Federal Register document electronically through the EPA Internet under the “Federal Register” listings at http://www.epa.gov/fedrgstr/. A frequently updated electronic version of 40 CFR parts 152, 154, 158, 159, 168, and 178 are available at E-CFR Beta Site Two at http://www.gpoaccess.gov/ecfr/.

II. What Does this Technical Amendment Do?

In recent months the addresses and some mail codes for the Office of Pesticide Programs have changed. This technical amendment effects the changes necessary to conform 40 CFR parts 152, 154, 158, 159, 168, and 178 to the new addresses and mail code.

III. Why is this Technical Amendment Issued as a Final Rule?

Section 553 of the Administrative Procedure Act (APA), 5 U.S.C. 553(b)(B), provides that, when an agency for good cause finds that notice and public procedure are impracticable, unnecessary or contrary to the public interest, the agency may issue a rule without providing notice and an opportunity for public comment. EPA has determined that there is good cause for making this rule final without prior proposal and opportunity for comment. EPA has determined that these amendments are technical and non-substantive in nature because these amendments only correct address related information. Thus, notice and public procedure are unnecessary. EPA finds that this constitutes good cause under 5 U.S.C. 553(b)(B).

IV. What is the Agency's Authority for Taking this Action?

EPA is issuing this document under its general rulemaking authority, Reorganization Plan No. 3 of 1970 (5 U.S.C. app.).

V. Statutory and Executive Order Reviews

This final rule implements technical amendments and corrections to provisions that appear in 40 CFR parts 152, 154, 158, 159, 168, and 178 to reflect changes in the Agency's official address, and it does not otherwise impose or amend any requirements. As such, the Office of Management and Budget (0MB) has determined that a technical amendment and/or correction is not a “significant regulatory action” subject to review by OMB under Executive Order 12866, entitled Regulatory Planning and Review (58 FR 51735. October 4, 1993). Nor does this rule contain any information collection requirements that require review and approval by 0MB pursuant to the Paperwork Reduction Act of 1995 (PRA) (44 U.S.C. 3501 et. seq.).

Since the Agency has made a “good cause” finding that this action is not subject to notice-and-comment requirements under the APA or any other statute, this action is not subject to provisions of the Regulatory Flexibility Act (RFA) (5 U.S.C. 601 et. seq.), or to sections 202 and 205 of the Unfunded Mandates Reform Act of 1995 (UMRA) (Public Law 104-94). In addition, this action does not significantly or uniquely affect small governments or impose a significant intergovernmental mandate, as described in sections 203 and 204 of UMRA. This rule will not have substantial direct effects on the States, on the relationship between the national government and the States, or on the distribution of power and responsibilities among the various levels of government, as specified in Executive Order 13132. entitled Federalism (64 FR 43255, August 10. 1999). Similarly, this rule will not have substantial direct effects on tribal governments, on the relationship between the Federal government and Indian tribes, or on the distribution of power and responsibilities between the Federal government and Indian tribes, as specified in Executive Order 13175, entitled Consultation and Coordination with Indian Tribal Governments (65 FR 67249, November 6, 2000).

Because this action is not economically significant as defined by section 3(f) of Executive Order 12866, and does not involve impacts to children, this action is not subject to Executive Order 13045, entitled Protection of Children from Environmental Health Risks and Safety Risks (62 FR 19885, April 23, 1997).

This rule is not subject to Executive Order 13211, entitled Actions Concerning Regulations That Significantly Affect Energy Supply, Distribution, or Use (66 FR 28355, May 22, 2001), because this action is not a significant regulatory action under Executive Order 12866, nor is it expected to adversely affect energy supply, distribution, or use.

This action does not involve any technical standards that require the Agency's consideration of voluntary consensus standards pursuant to section 12(d) of the National Technology Transfer and Advancement Act of 1995 (NTTAA), Public Law 104-113, section 12(d) (15 U.S.C. 272 note).

This action will not result in environmental justice related issues and does not, therefore, require special consideration under Executive Order 12898, entitled Federal Actions to Address Environmental Justice in Minority Populations and Low-Income Populations (59 FR 7629, February 16, 1994).

VI. Congressional Review Act

The Congressional Review Act (CRA) (5 U.S.C. 801 et seq.), generally provides that before a rule may take effect, the agency promulgating the rule must submit a rule report, which includes a copy of the rule, to each house of the Congress and to the Comptroller General of the United States. CRA section 808 allows the issuing agency to make a rule effective sooner than otherwise provided by the CRA, if the agency makes a good cause finding that notice and public procedure is impracticable, unnecessary, or contrary to the public interest. This determination must Be supported by a brief statement (5 U.S.C. 808(2)). As stated previously, EPA has made such a good cause finding, including the reasons therefore, and established an effective date of July 1, 2004. EPA will submit a report containing this rule and other required information to the U.S. Senate, the U.S. House of Representatives. and the Comptroller General of the United States prior to publication of the rule in the Federal Register. This action is not a “major rule” as defined by 5 U.S.C. 804(2).

List of Subjects

40 CFR Part 152, 159, and 178

Environmental protection, Administrative practice and procedure, pesticides and pests, reporting and recordkeeping.

40 CFR Part 154

Environmental protection, Administrative practice and procedure, pesticides and pests.

40 CFR Part 158

Environmental protection, Confidential business information, pesticides and pests, reporting and recordkeeping.

40 CFR Part 168

Environmental protection, Administrative practice and procedure, Advertising, pesticides and pests.

Dated: June 28, 2004.
Susan B. Hazen,
Assistant Administrator, Office of Prevention, Pesticides and Toxic Substances.

Therefore, 40 CFR parts 152, 154, 158, 159, 168, and 178 are amended as follows:

PART 152—[AMENDED]

1. The authority citation for part 152 continues to read as follows:

Authority: 7 U.S.C. 136-136y; Subpart U is also issued under 31 U.S.C. 9701.

§§152.55 and 152.414 [Amended]

2. Sections 152.55 and 152.414 are amended by changing the phrase “TS-767C” to read “7505C”.

PART 154—[AMENDED]

3. The authority citation for part 154 continues to read as follows:

Authority: 15 U.S.C. 136a, d, and w.

4. Section 154.15 is amended by revising paragraph (f)(1)(ii) to read as follows:

§ 154.15 Docket for the Special Review.

* * * * *

(f) * * *

(1) * * *

(ii) The docket and index will be available at the Program Management and Support Division, in Rm. 236, Crystal Mall #2, 1801 South Bell St., Arlington, VA, from 8 a.m. to 4 p.m. Monday through Friday, excluding legal holidays.

* * * * *

PART 158—[AMENDED]

5. The authority citation for part 158 continues to read as follows:

Authority: 7 U.S.C. 136-136y.

6. Section 158.45 is amended by revising paragraph (d) to read as follows:

§ 158.45 Waivers.

* * * * *

(d) Availability of waiver decisions. Agency decisions under this section granting waiver requests will be available to the public at the Office of Pesticide Programs Reading Room, Rm. 236, Crystal Mall #2, 1801 South Bell St., Arlington, VA 22202 from 8 a.m. to 4 p.m., Monday through Friday, except legal holidays. Any person may obtain a copy of any waiver decision by written request in the manner set forth in 40 CFR part 2.

PART 159—[AMENDED]

7. The authority citation for part 159 continues to read as follows:

Authority: 7 U.S.C. 136-136y.

8. Section 159.156 is amended by revising paragraph (b) to read as follows:

§ 159.156 How information must be submitted.

* * * * *

(b) Be delivered in person or by courier service or by such other methods as the Agency deems appropriate to the following address, or to such other address as the Agency may subsequently specify in writing: Document Processing Desk-6(a)(2), Office of Pesticide Programs, Room 266A, Crystal Mall #2, 1801 South Bell St., Arlington, Virginia 22202.

* * * * *

PART 168—[AMENDED]

9. The authority citation for part 168 continues to read as follows:

Authority: 7 U.S.C. 136-136y.

10. Section 168.65 is amended by revising paragraph (b)(1)(iii)(A)(2)(i) and (iii) to read as follows:

§ 168.65 Pesticide export label and labeling requirements.

* * * * *

(b) * * *

(1) * * *

(iii) * * *

(A) * * *

(2) * * *

(i) The change in color must result only from the addition of a dye included on the list of the chemicals exempted from the requirement of a tolerance at 40 CFR 180.910, 180.920, 180.930, and 180.950, and the dye must not be a List 1 inert. (List 1 inerts are those inerts which the Agency has identified as presenting toxicological concerns. The classification of inerts is explained in EPA's Policy Statement on Inert Ingredients in Pesticide Products, which can be obtained from the Office of Pesticide Programs public docket, Room 119, Crystal Mall # 2, 1801 South Bell St., Arlington, Virginia 22202.)

* * * * *

(iii) The change in fragrance must not result in a pesticide product containing a food or food-like fragrance. (See “Food Fragrances in Pesticide Formulations,” EPA's Office of Pesticide Programs Policy and Criteria Notice number 2155.1, November 20, 1975 which can be obtained from the Office of Pesticide Programs public docket, Room 119, Crystal Mall #2, 1801 South Bell St., Arlington, Virginia 22202.)

* * * * *

PART 178—[AMENDED]

11. The authority citation for part 178 continues to read as follows:

Authority: 7 U.S.C. 346a, 348, 371(a) ; Reorg. Plan No. 3 of 1970.

12. Section 178.25 is amended by revising paragraphs (b)(1) and (b)(2) to read as follows:

§ 178.25 Form and manner of submission of objections.

* * * * *

(b) * * *

(1) Mailed submissions should be addressed to: Office of the Hearing Clerk (1900L), U.S. Environmental Protection Agency, 1200 Pennsylvania Ave., NW., Washington, DC 20460.

(2) For personal delivery, the Office of the Hearing Clerk is located at: Suite 350, 1099 14th St., NW., Washington, DC.

[FR Doc. 04-15059 Filed 6-29-04; 1:40 p.m.]

BILLING CODE 6560-50-S